DEPARTMENT OF ENERGY

Federal Energy Regulatory Commission

Combined Notice of Filings #1

Take notice that the Commission received the following electric rate filings:

Docket Numbers: ER10-2331-043; ER14-630-020; ER10-2319-035; ER10-2317-035; ER13-1351-017; ER10-2330-042.

Applicants: J.P. Morgan Ventures Energy Corporation, AlphaGen Power LLC, BE Alabama LLC, BE CA LLC, Florida Power Development LLC, Utility Contract Funding, L.L.C.

Description: Updated Notice of Non-Material Change in Status of JPMorgan Sellers.

Filed Date: 10/20/15.

Accession Number: 20151020-5200.

Comments Due: 5 p.m. ET 11/10/15.

Docket Numbers: ER10-2331-044; ER14-630-021; ER10-2319-036; ER10-2317-036; ER13-1351-018; ER10-2330-043.

Applicants: J.P. Morgan Ventures Energy Corporation, AlphaGen Power LLC, BE Alabama LLC, BE CA LLC, Florida Power Development LLC, Utility Contract Funding, L.L.C.

Description: Updated Notice of Non-Material Change in Status of JPMorgan Sellers.

Filed Date: 10/20/15.

Accession Number: 20151020-5205.

Comments Due: 5 p.m. ET 11/10/15.

Docket Numbers: ER13-1928-007.

Applicants: Duke Energy Progress, LLC, Duke Energy Carolinas, LLC.

Description: Compliance filing: Order No. 1000 Interregional SERTP PJM and MISO to be effective 1/1/2015.

Filed Date: 10/21/15.

Accession Number: 20151021-5065.

Comments Due: 5 p.m. ET 11/12/15.

Docket Numbers: ER13-1930-006.

Applicants: Louisville Gas and Electric Company.

Description: Compliance filing: Order No 1000 SERTP-PJM 3d Interregional Compliance Filing to be effective 1/1/2015.

Filed Date: 10/21/15.

Accession Number: 20151021-5046.

Comments Due: 5 p.m. ET 11/12/15.

Docket Numbers: ER13-1941-006.

Applicants: Alabama Power Company.

Description: Compliance filing: Order No. 1000 Third Interregional Compliance Filing—SERTP-PJM Seam to be effective 1/1/2015.

Filed Date: 10/21/15.

Accession Number: 20151021-5109.

Comments Due: 5 p.m. ET 11/12/15.

Docket Numbers: ER15-861-006.

Applicants: California Independent System Operator Corporation.

Description: Compliance filing: 2015-10-21 Response to Deficiency Letter Regarding August 19 Filing to be effective 1/5/2016.

Filed Date: 10/21/15.

Accession Number: 20151021-5004.

Comments Due: 5 p.m. ET 11/12/15.

Docket Numbers: ER15-2403-001.

Applicants: Pacific Gas and Electric Company.

Description: Compliance filing: eTariff Migration Compliance Filing to Update Pending Records in LID SA 258 to be effective 7/23/2015.

Filed Date: 10/21/15.

Accession Number: 20151021-5003.

Comments Due: 5 p.m. ET 11/12/15.

Docket Numbers: ER15-2477-000.

Applicants: Golden Hills Wind, LLC.

Description: Amendment to August 18, 2015 and September 29, 2015 Golden Hills Wind, LLC tariff filing.

Filed Date: 10/16/15.

Accession Number: 20151016-5508.

Comments Due: 5 p.m. ET 10/26/15.

Docket Numbers: ER15-2582-001.

Applicants: Carousel Wind Farm, LLC.

Description: Tariff Amendment: Amendment to Carousel Wind Farm, LLC Application for MBR Authority to be effective 10/31/2015.

Filed Date: 10/20/15.

Accession Number: 20151020-5244.

Comments Due: 5 p.m. ET 11/10/15.

Docket Numbers: ER16-122-000.

Applicants: The Finerty Group, Inc.

Description: Tariff Cancellation: Notice of Cancellation to be effective 10/21/2015.

Filed Date: 10/20/15.

Accession Number: 20151020-5225.

Comments Due: 5 p.m. ET 11/10/15.

Docket Numbers: ER16-123-000.

Applicants: Avista Corporation.

Description: Section 205(d) Rate Filing: Avista Corp SA T1134 Construction Agreement to be effective 10/14/2015.

Filed Date: 10/20/15.

Accession Number: 20151020-5226.

Comments Due: 5 p.m. ET 11/10/15.

Docket Numbers: ER16-124-000.

Applicants: AV Solar Ranch 1, LLC.

Description: Baseline eTariff Filing: Certificate of Concurrence for Shared Facilities Agreements to be effective 12/31/9998.

Filed Date: 10/20/15.

Accession Number: 20151020-5228.

Comments Due: 5 p.m. ET 11/10/15.

Docket Numbers: ER16-125-000.

Applicants: Southern California Edison Company.

Description: Section 205(d) Rate Filing: GIA & Distribution Service Agreement Windstream 6042 Project to be effective 10/24/2015.

Filed Date: 10/21/15.

Accession Number: 20151021-5000.

Comments Due: 5 p.m. ET 11/12/15.

Docket Numbers: ER16-127-000.

Applicants: Midcontinent Independent System Operator, Inc.

Description: Section 205(d) Rate Filing: 2015-10-21 MVP ARR Filing to be effective 12/20/2015.

Filed Date: 10/21/15

Accession Number: 20151021-5049.

Comments Due: 5 p.m. ET 11/12/15.

Docket Numbers: ER16-128-000.

Applicants: Midcontinent Independent System Operator, Inc.

Description: Section 205(d) Rate Filing: 2015-10-21_SA 2855 ATC-Manitowoc Transmission Line Relocation Agreement to be effective 12/20/2015.

Filed Date: 10/21/15.

Accession Number: 20151021-5052.

Comments Due: 5 p.m. ET 11/12/15.

Docket Numbers: ER16-129-000.

Applicants: Midcontinent Independent System Operator, Inc.

Description: Section 205(d) Rate Filing: 2015-10-21_SA 6502 Terminate Edwards SSR Agreement to be effective 1/1/2016.

Filed Date: 10/21/15.

Accession Number: 20151021-5081.

Comments Due: 5 p.m. ET 11/12/15.

Docket Numbers: ER16-130-000.

Applicants: Southwest Power Pool, Inc.

Description: Section 205(d) Rate Filing: Integrated System Clean-Up Filing to be effective 10/1/2015.

Filed Date: 10/21/15.

Accession Number: 20151021-5084.

Comments Due: 5 p.m. ET 11/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2015.
Nathaniel J. Davis, Sr.,
Deputy Secretary.

[FR Doc. 2015-27251 Filed 10-26-15; 8:45 am]

BILLING CODE 6717-01-P